DEPARTMENT OF AGRICULTURE

Forest Service

Beaverhead-Deerlodge National Forest, Madison Ranger District; Montana; Strawberry to Cascade Allotment Management Plans

AGENCY: Forest Service, USDA.

ACTION: Notice of intent to prepare an environmental impact statement.

SUMMARY: The U.S. Department of Agriculture, Forest Service will prepare an environmental impact statement (EIS) for the Strawberry to Cascade allotment management plans (AMPs). The proposed project would revise grazing management on the Barnett, Black Butte, Coal Creek, Cottonwood, Fossil-Hellroaring, Lyon-Wolverine, Poison Basin, and Upper Ruby allotments (sheep grazing portions) in the Gravelly Mountain Range on the Madison Ranger District of the Beaverhead-Deerlodge National Forest (B-D NF).

DATES: Comments concerning the scope of the analysis must be received by October 15, 2018. The draft EIS is expected to be published March 2019 and the final EIS is expected to be published October 2019.

ADDRESSES: Send written comments to Dale Olson, District Ranger, Madison Ranger District, 5 Forest Service Road, Ennis, MT 59729. Comments may also be sent via email to comments-northern-beaverhead-deerlodge@fs.fed.us or via facsimile to 406-682-4233. For all forms of comment, make sure to include your name, physical address, phone number, and a subject title of “Strawberry to Cascade AMPs.”

FOR FURTHER INFORMATION CONTACT: Dale Olson, District Ranger, Madison Ranger District, 5 Forest Service Road, Ennis, MT 59729. Phone: 406-682-4253. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for this EIS is to revise grazing management, as necessary, on the Barnett, Black Butte, Coal Creek, Cottonwood, Fossil-Hellroaring, Lyon-Wolverine, Poison Basin, and Upper Ruby allotments sheep grazing portions to ensure consistency with all law, regulation and policy, including direction from the Rescissions Act of 1995 [Pub. L. 104-19]. Section 504(a) of the Rescissions Act; and, the 2004 Appropriations Act (P.L. 108-108) Section 325, require the Secretary of Agriculture to schedule when national forests will complete environmental analysis and documentation required under the National Environmental Policy Act for all grazing allotments.

Proposed Action

The proposed action would authorize domestic livestock (sheep) grazing on eight allotments and proposes no change to existing grazing management.

Possible Alternatives

A `no grazing' alternative will be analyzed in detail in addition to the proposed action.

Responsible Official

The responsible official will be the Madison District Ranger.

Nature of Decision To Be Made

The decision to be made is whether or not to implement the proposed action, another alternative, or a combination of the alternatives.

Preliminary Issues

Issues of concern are the effects of domestic sheep grazing on the wild Bighorn Sheep populations found on the B-D NF. There is concern that domestic sheep grazing is a disease transmission risk to the wild Bighorn sheep. Additional issues will be identified through scoping.

Scoping Process

This notice of intent initiates the scoping process, which guides the development of the environmental impact statement.

It is important that reviewers provide their comments in a manner that are useful to the agency's preparation of the environmental impact statement. Comments should be provided prior to the close of the comment period and should clearly articulate the reviewer's concerns and contentions.

Comments received in response to this solicitation, including names and addresses of those who comment, will be part of the public record for this proposed action. Comments submitted anonymously will be accepted and considered.

Dated: August 23, 2018.
Chris French,
Associate Deputy Chief, National Forest System.

[FR Doc. 2018-20045 Filed 9-13-18; 8:45 am]

BILLING CODE 3411-15-P